ENVIRONMENTAL PROTECTION AGENCY

40 CFR Parts 174 and 180

[EPA-HQ-OPP-2019-0041; FRL-9992-36]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before June 10, 2019.

ADDRESSES: Submit your comments, identified by the docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Notice of Filing—Amended Tolerances for Non-Inerts

1. PP 8E8718. (EPA-HQ-OPP-2018-0832). The Field Interregional Research Project Number 4 (IR-4), Rutgers, The State University of New Jersey, 500 College Road East, Suite 201W, Princeton, New Jersey 08540, proposes upon establishment of tolerances referenced in this document under “New Tolerances” for PP 8E8718, to remove existing tolerances in 40 CFR 180.601 for residues of the fungicide, cyazofamid, 4-chloro-2-cyano-N,N-dimethyl-5-(4-methylphenyl)-1H-imidazole-1-sulfonamide (CA) and its metabolite CCIM, 4-chloro-5-(4-methylphenyl)-1H-imidazole-2-carbonitrile (CA), calculated as the stoichiometric equivalent of cyazofamid in or on brassica, head and stem, subgroup 5A at 1.2 ppm, brassica, leafy greens, subgroup 5B at 12.0 ppm, leafy greens subgroup 4A at 10 ppm, and turnip, greens at 12.0 ppm. Contact: RD.

2. PP 8E8732. (EPA-HQ-OPP-2019-0101). IR-4, Rutgers, The State University of New Jersey, 500 College Road East, Suite 201W, Princeton, NJ 08540, proposes upon establishment of tolerances referenced in this document under “New Tolerances” for PP 8E8732, to remove existing tolerances in 40 CFR 180.700 for residues of the insecticide afidopyropen, [(3S,4R,4aR,6S,6aS,12R,12aS,12bS)-3-[(cyclopropylcarbonyl)oxy]-1,3,4,4a,5,6,6a,12,12a,12b-decahydro-6,12-dihydroxy-4,6a,12b-trimethyl-11-oxo-9-(3-pyridinyl)-2H,11H-naphtho[2,1-b]pyrano[3,4-e]pyran-4-yl]methyl cyclopropanecarboxylate in or on vegetable, fruiting, group 8-10 at 0.20 parts per million (ppm). Contact: RD.

3. PP 8F8721. EPA-HQ-OPP-2019-0135. Gowan Company, P.O. Box 5569, Yuma, AZ 85366, requests to amend the tolerance in 40 CFR 180.416 for residues of the herbicide ethalfluralin in or on potato at 0.01 ppm. The capillary gas chromatography with mass selective detection (GC/MSD) is used to measure and evaluate the chemical ethalfluralin. Contact: RD.

B. New Tolerances for Non-Inerts

1. PP 8E8718. (EPA-HQ-OPP-2018-0832). The Field IR-4, Rutgers, The State University of New Jersey, 500 College Road East, Suite 201W, Princeton, NJ 08540, requests to establish a tolerance in 40 CFR part 180.601 for residues of the fungicide, cyazofamid, 4-chloro-2-cyano-N,N-dimethyl-5-(4-methylphenyl)-1H-imidazole-1-sulfonamide (CA) and its metabolite CCIM, 4-chloro-5-(4-methylphenyl)-1H-imidazole-2-carbonitrile (CA), calculated as the stoichiometric equivalent of cyazofamid in or on brassica, leafy greens, subgroup 4-16B at 15.0 ppm; ginseng at 0.2 ppm; kohlrabi at 1.5 ppm; leafy greens subgroup 4-16A at 10.0 ppm; and vegetable, brassica, head and stem, group 5-16 at 1.5 ppm. The analytical method, Liquid Chromatography with tandem Mass Spectrometry (LC/MS/MS) is used to measure and evaluate cyazofamid. Contact: RD.

2. PP 8E8727. (EPA-HQ-OPP-2019-0061). The IR-4, Rutgers, The State University of New Jersey, 500 College Road East, Suite 201W, Princeton, NJ 08540, requests to establish a tolerance in 40 CFR part 180.605 for residues of the herbicide penoxsulam, including its metabolites and degradates. Compliance with the tolerance level specified is to be determined by measuring only penoxsulam 2-(2,2-difluoroethoxy)-N-(5,8-dimethoxy[1,2,4]triazolo[1,5-c] pyrimidin-2-yl)-6-(trifluoromethyl) benzenesulfonamide, in or on Artichoke, globe at 0.01 ppm. Analytical method, LC/MS/MS, is used to measure and evaluate penoxsulam residues. The lowest level of method validation (LLMV) for artichoke, globe is 0.01 ppm for penoxsulam. Contact: RD

3. PP 8E8728. (EPA-HQ-OPP-2019-0076). Syngenta Crop Protection, LLC, P.O. Box 18300, Greensboro, NC 27419, requests to establish a tolerance in 40 CFR part 180 for residues of the fungicide, difenoconazole, in or on tea at 30 ppm. The Gas chromatography equipped with a nitrogen-phosphorous detector or liquid chromatography (LC)/mass spectrometry (MS)/(MS) is used to measure and evaluate the chemical difenoconazole. Contact: RD.

4. PP 8E8732. (EPA-HQ-OPP-2019-0101). The IR-4, Rutgers, The State University of New Jersey, 500 College Road East, Suite 201 W, Princeton, NJ 08540, requests to establish a tolerance in 40 CFR part 180.700 for residues of the insecticide afidopyropen, [(3S,4R,4aR,6S,6aS,12R,12aS,12bS)-3-[(cyclopropylcarbonyl)oxy]-1,3,4,4a,5,6,6a,12,12a,12b-decahydro-6,12-dihydroxy-4,6a,12b-trimethyl-11-oxo-9-(3-pyridinyl)-2H,11H-naphtho[2,1-b]pyrano[3,4-e]pyran-4-yl]methyl cyclopropanecarboxylate in or on strawberry at 0.15 ppm and vegetable, fruiting, group 8-10 at 0.30 ppm. The BASF Method Number D1103/01 “Technical Procedure: Determination of Residues of BAS 440I (Reg. No. 5599022) and its Metabolite M440I007 (Reg. No. 5824749) in Plant Matrices using LC/MS/MS to measure and evaluate afidopyropen. Contact: RD.

5. PP 8F8685. EPA-HQ-OPP-2018-0551. FMC Corporation, 2929 Walnut Street, Philadelphia, PA 19104, requests to establish a tolerance in 40 CFR part 180 for residues of the fungicide fluindapyr in or on almond, hulls at 15 ppm; aspirated grain fractions at 60 ppm; cattle, fat at 0.15 ppm; cattle, meat byproducts at 0.6 ppm; field corn, grain at 0.01 ppm; field corn, oil at 0.03 ppm; fruit, small vine-climbing except fuzzy kiwifruit, crop subgroup 13-07f at 3 ppm; grain, cereal, crop group 15, except rice and corn at 0.9 ppm; grain, cereal, forage, crop group 16, except rice, forage at 15 ppm; grain, cereal, hay, crop group 16, except rice, hay at 8 ppm; grain, cereal, stover, crop group 16, except rice, stover, and sweet corn, stover at 4 ppm grain, cereal, straw, crop group 16, except rice, straw at 20 ppm; poultry, meat byproducts at 0.03 ppm; soybean, forage at 15 ppm; soybean, hay at 30 ppm; soybean, hulls at 0.6 ppm; soybean, seed at 0.2 ppm; sweet corn, K+CWHR at 0.01 ppm; sweet corn, stover at 20 ppm; swine, meat byproducts at 0.02 ppm; and tree nuts, crop group 14-12 at 0.04 ppm. The liquid chromatography with mass spectrometry (LC-MS/MS) is used to measure and evaluate the chemical fluindapyr. Contact: RD.

6. PP 8F8740. (EPA-HQ-OPP-2019-0092). Taminco US LLC, a subsidiary of Eastman Chemical Company, Two Windsor Plaza, Suite 400, 7540 Windsor Drive, Allentown, PA 18195, requests to establish a tolerance in 40 CFR part 180 for residues of the plant growth regulatory, chlormequat chloride, in or on barley grain at 5.0 ppm; oat grain at 30 ppm, wheat and triticale grain at 3 ppm, meat of cattle, goats, hogs and sheep at 0.2 ppm, meat byproducts of cattle, goats, hogs and sheep at 0.5 ppm, poultry meat at 0.04 ppm, poultry byproducts at 0.1 ppm, eggs at 0.1 ppm and milk at 0.5 ppm. Validated LC-MS/MS methods are available for enforcement purposes for determination of residues of chlormequat chloride in plants and animal products. Contact: RD.

Authority: 21 U.S.C. 346a.

Dated: April 23, 2019.
Delores Barber,
Director, Information Technology and Resources Management Division, Office of Pesticide Programs.

[FR Doc. 2019-09491 Filed 5-8-19; 8:45 am]

BILLING CODE 6560-50-P